DEPARTMENT OF TRANSPORTATION

Federal Aviation Administration

14 CFR Part 39

[Docket No. FAA-2016-5464; Directorate Identifier 2015-NM-097-AD; Amendment 39-18607; AD 2016-16-09]

RIN 2120-AA64

Airworthiness Directives; Dassault Aviation Airplanes

AGENCY: Federal Aviation Administration (FAA), Department of Transportation (DOT).

ACTION: Final rule.

SUMMARY: We are superseding Airworthiness Directive (AD) 2011-10-01 for all Dassault Aviation Model FALCON 7X airplanes. AD 2011-10-01 required repetitive functional tests of the ram air turbine (RAT) heater, and repair if necessary. This new AD requires revision of the maintenance or inspection program to incorporate new maintenance requirements and airworthiness limitations. This AD was prompted by the need for new and more restrictive maintenance requirements and airworthiness limitations for airplane structures and systems. We are issuing this AD to prevent reduced structural integrity and reduced control of these airplanes due to the failure of system components.

DATES: This AD is effective September 14, 2016.

The Director of the Federal Register approved the incorporation by reference of a certain publication listed in this AD as of September 14, 2016.

ADDRESSES: For service information identified in this final rule, contact Dassault Falcon Jet Corporation, Teterboro Airport, P.O. Box 2000, South Hackensack, NJ 07606; telephone: 201-440-6700; Internet: http://www.dassaultfalcon.com. You may view this service information at the FAA, Transport Airplane Directorate, 1601 Lind Avenue SW., Renton, WA. For information on the availability of this material at the FAA, call 425-227-1221. It is also available on the Internet at http://www.regulations.gov by searching for and locating Docket No. FAA-2016-5464.

Examining the AD Docket

You may examine the AD docket on the Internet at http://www.regulations.gov by searching for and locating Docket No. FAA-2016-5464; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 to supersede AD 2011-10-01, Amendment 39-16682 (76 FR 25535, May 5, 2011) (“AD 2011-10-01”). AD 2011-10-01 applied to all Dassault Aviation Model FALCON 7X airplanes. The NPRM published in the Federal Register on April 20, 2016 (81 FR 23206) (“the NPRM”). The NPRM was prompted by the need for new and more restrictive maintenance requirements and airworthiness limitations for airplane structures and systems. The NPRM proposed to require revision of the maintenance or inspection program to incorporate new maintenance requirements and airworthiness limitations. We are issuing this AD to prevent reduced structural integrity and reduced control of these airplanes due to the failure of system components.

The European Aviation Safety Agency (EASA), which is the Technical Agent for the Member States of the European Union, has issued EASA Airworthiness Directive AD 2015-0095, dated May 29, 2015 (referred to after this as the Mandatory Continuing Airworthiness Information, or “the MCAI”), to correct an unsafe condition for all Dassault Aviation FALCON 7X airplanes. The MCAI states:

The airworthiness limitations and maintenance requirements for the FALCON 7X type design are included in Dassault Aviation FALCON 7X Aircraft Maintenance Manual (AMM) chapter 5-40 and are approved by EASA. To ensure accomplishment of the maintenance tasks, and implementation of the airworthiness limitations, as specified in Dassault Aviation FALCON 7X AMM chapter 5-40 original issue, including temporary revision (TR) TR-01, EASA issued AD 2008-0221.

Since that [EASA] AD was issued, Dassault Aviation issued revision 4 of the FALCON 7X AMM chapter 5-40, which introduces new and more restrictive maintenance requirements and/or airworthiness limitations.

Dassault Aviation AMM chapter 5-40 revision 4 contains, among others, the following changes:

—Fatigue and Damage tolerance airworthiness limitations,

—Miscellaneous Certification Maintenance Requirements and Airworthiness Limitation Items,

—Periodic restoration of the DC generators (this action was required by EASA AD 2009-0254),

—Functional test of the Ram Air Turbine heater (this action was required by EASA AD 2010-0033) [which corresponds to FAA AD 2011-10-01],

—Special detailed fatigue inspection of fastener holes at front spar/wing lower panel connections at RIB 26,

—Operational test of the IRS3 power supply weight-on- wheel logic,

—Inspection of the interface between wheel keys and brake inboard rotor,

—Operational test of the Horizontal Stabilizer Trim Actuator (HSTA) electrical motor reversion,

—Operational test of the HSTA trim emergency command,

—Detailed inspection of the brake heat sink.

The maintenance tasks and airworthiness limitations, as specified in the FALCON 7X AMM chapter 5-40, have been identified as mandatory actions for continued airworthiness of the FALCON 7X type design. Failure to accomplish the actions specified in AMM chapter 5-40 at revision 4 may result in an unsafe condition.

For the reasons described above, this [EASA] AD retains the requirements of EASA AD 2009-0254 and EASA AD 2010-0033, which are superseded, and requires accomplishment of the maintenance tasks and airworthiness limitations, as specified in Dassault Aviation FALCON 7X AMM chapter 5-40 at revision 4.

You may examine the MCAI in the AD docket on the Internet at http://www.regulations.gov by searching for and locating Docket No. FAA-2016-5464.

This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (k)(1) of this AD. The request should include a description of changes to the required inspections that will ensure the continued operational safety of the airplane.

Notwithstanding any other maintenance or operational requirements, components that have been identified as airworthy or installed on the affected airplanes before accomplishing the revision of the airplane maintenance or inspection program specified in this AD, do not need to be reworked in accordance with the CDCCLs. However, once the airplane maintenance or inspection program or airworthiness limitations section (ALS) has been revised as required by this AD, future maintenance actions on these components must be done in accordance with the CDCCLs.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Dassault Aviation issued Chapter 5-40-00, Airworthiness Limitations, DGT 107838, Revision 4, dated February 2, 2015, of the Dassault Falcon 7X Maintenance Manual, which introduces new and more restrictive maintenance requirements and airworthiness limitations for airplane structures and systems. This service information is reasonably available because the interested parties have access to it through their normal course of business or by the means identified in the ADDRESSES section.

Costs of Compliance

We estimate that this AD affects 45 airplanes of U.S. registry.

We estimate the following costs to comply with this AD:

Estimated Costs
Action | Labor cost | Parts cost | Cost per product | Cost on U.S. operators
Functional test retained from AD 2011-10-01 | 1 work-hour × $85 per hour = $85 | $0 | $85 per inspection cycle | $3,825 per inspection cycle.
Revise maintenance or inspection program | 1 work-hour × $85 per hour = $85 | 0 | $85 | $3,825.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-10-01, Amendment 39-16682 (76 FR 25535, May 5, 2011), and adding the following new AD:

2016-16-09 Dassault Aviation: Amendment 39-18607; Docket No. FAA-2016-5464; Directorate Identifier 2015-NM-097-AD.

(a) Effective Date

This AD is effective September 14, 2016.

(b) Affected ADs

This AD replaces AD 2011-10-01, Amendment 39-16682 (76 FR 25535, May 5, 2011) (“AD 2011-10-01”). This AD affects AD 2014-16-23, Amendment 39-17947 (79 FR 52545, September 4, 2014) (“AD 2014-16-23”).

(c) Applicability

This AD applies to Dassault Aviation Model FALCON 7X airplanes, certificated in any category, all serial numbers.

(d) Subject

Air Transport Association (ATA) of America Code 05, Time Limits/Maintenance Checks.

(e) Reason

This AD was prompted by the need for new and more restrictive maintenance requirements and airworthiness limitations for airplane structures and systems. We are issuing this AD to prevent reduced structural integrity and reduced control of these airplanes due to the failure of system components.

(f) Compliance

Comply with this AD within the compliance times specified, unless already done.

(g) Retained Functional Test of the Ram Air Turbine (RAT) Heater, With New Terminating Action and Specific Delegation Approval Language

This paragraph restates the requirements of paragraph (g) of AD 2011-10-01, with new terminating action and specific delegation approval language. At the applicable times specified in paragraph (g)(1) or (g)(2) of this AD, do a functional test of the RAT heater using a method approved by either the Manager, International Branch, ANM-116, Transport Airplane Directorate, FAA; or the European Aviation Safety Agency (EASA); or Dassault Aviation's EASA Design Organization Approval (DOA). Repeat the functional test of the RAT heater thereafter at the applicable time specified in paragraph (g)(1) or (g)(2) of this AD until the revision required by paragraph (h) of this AD is done. If any functional test fails, before further flight, repair using a method approved by either the Manager, International Branch, ANM-116, Transport Airplane Directorate, FAA; or EASA; or Dassault Aviation's EASA DOA.

(1) For Model FALCON 7X airplanes on which modification M0305 has not been done and on which Dassault Service Bulletin 7X-018, dated March 6, 2009, has not been done: Within 650 flight hours after the effective date of this AD, do a functional test of the RAT heater and repeat the functional test of the RAT heater thereafter at intervals not to exceed 650 flight hours.

(2) For Model FALCON 7X airplanes on which modification M0305 has been done or on which Dassault Service Bulletin 7X-018, dated March 6, 2009, has been done: Within 1,900 flight hours after June 9, 2011 (the effective date of AD 2011-10-01), or after modification M0305 or Dassault Service Bulletin 7X-018, dated March 6, 2009, has been done, whichever occurs later, do a functional test of the RAT heater. Repeat the functional test of the RAT heater thereafter at intervals not to exceed 1,900 flight hours.

Note 1 to paragraph (g) of this AD: Additional guidance for doing the functional test of the RAT heater required by paragraph (g) of this AD can be found in Task 24-50-25-720-801, Functional Test of the RAT Heater, dated January 16, 2009, of the Dassault FALCON 7X Aircraft Maintenance Manual (AMM).

(h) New Requirement of This AD: Revise the Maintenance or Inspection Program

Within 30 days after the effective date of this AD, revise the maintenance or inspection program, as applicable, by incorporating the information specified in Chapter 5-40-00, Airworthiness Limitations, DGT 107838, Revision 4, dated February 2, 2015, of the Dassault Falcon 7X Maintenance Manual (MM). The initial compliance times for the tasks specified in Chapter 5-40-00, Airworthiness Limitations, DGT 107838, Revision 4, dated February 2, 2015, of the Dassault Falcon 7X MM are at the applicable compliance times specified in Chapter 5-40-00, Airworthiness Limitations, DGT 107838, Revision 4, dated February 2, 2015, of the Dassault Falcon 7X MM, or within 30 days after the effective date of this AD, whichever occurs later.

(i) Terminating Actions for Certain Requirements of This AD and AD 2014-16-23

(1) Accomplishment of the revision required by paragraph (h) of this AD terminates the requirements of paragraph (g) of this AD.

(2) Accomplishment of the revision required by paragraph (h) of this AD terminates the requirements of paragraph (q) of AD 2014-16-23.

(j) No Alternative Actions, Intervals, and/or Critical Design Configuration Control Limitations (CDCCLs)

After the maintenance or inspection program, as applicable, has been revised as required by paragraph (h) of this AD, no alternative actions (e.g., inspections), intervals, and/or CDCCLs may be used unless the actions, intervals, and/or CDCCLs are approved as an alternative method of compliance (AMOC) in accordance with the procedures specified in paragraph (k)(1) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov.

(2) Contacting the Manufacturer: For any requirement in this AD to obtain corrective actions from a manufacturer, the action must be accomplished using a method approved by the Manager, International Branch, ANM-116, Transport Airplane Directorate, FAA; or EASA; or Dassault Aviation's EASA DOA. If approved by the DOA, the approval must include the DOA-authorized signature.

(l) Related Information

(1) Refer to Mandatory Continuing Airworthiness Information (MCAI) EASA AD 2015-0095, dated May 29, 2015, for related information. This MCAI may be found in the AD docket on the Internet at http://www.regulations.gov by searching for and locating Docket No. FAA-2016-5464.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Chapter 5-40-00, Airworthiness Limitations, DGT 107838, Revision 4, dated February 2, 2015, of the Dassault Aviation Falcon 7X Maintenance Manual.

(ii) Reserved.

(3) For service information identified in this AD, contact Dassault Falcon Jet Corporation, Teterboro Airport, P.O. Box 2000, South Hackensack, NJ 07606; telephone: 201-440-6700; Internet: http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 27, 2016.
Victor Wicklund,
Acting Manager, Transport Airplane Directorate, Aircraft Certification Service.

[FR Doc. 2016-18488 Filed 8-9-16; 8:45 am]

BILLING CODE 4910-13-P